DEPARTMENT OF TRANSPORTATION

Federal Motor Carrier Safety Administration

[Docket No. FMCSA-2016-0208]

Qualification of Drivers; Exemption Applications; Vision

AGENCY: Federal Motor Carrier Safety Administration (FMCSA), DOT.

ACTION: Notice of applications for exemptions; request for comments.

SUMMARY: FMCSA announces receipt of applications from 20 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 10, 2016. All comments will be investigated by FMCSA. The exemptions will be issued the day after the comment period closes.

ADDRESSES: You may submit comments bearing the Federal Docket Management System (FDMS) Docket No. FMCSA-2016-0208 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 20 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Randal D. Aukes

Mr. Aukes, 57, has had amblyopia in his left eye since birth. The visual acuity in his right eye is 20/20, and in his left eye, 20/400. Following an examination in 2016, his optometrist stated, “In my professional medical opinion I believe Randal Aukes has sufficient vision to perform the driving tasks required to operate a commercial vehicle.” Mr. Aukes reported that he has driven straight trucks for 35 years, accumulating 35,000 miles, and tractor-trailer combinations for 35 years, accumulating 3.85 million miles. He holds a Class A CDL from Minnesota. His driving record for the last 3 years shows no crashes and no convictions for moving violations in a CMV.

Joseph A. Baker

Mr. Baker, 37, has a prosthetic left eye due to a traumatic incident in childhood. The visual acuity in his right eye is 20/20, and in his left eye, no light perception. Following an examination in 2016, his optometrist stated, “It is my opinion that Mr. Baker has sufficient vision to perform the driving tasks required to operate a commercial vehicle.” Mr. Baker reported that he has driven straight trucks for 13 years, accumulating 650 miles, and tractor-trailer combinations for 13 years, accumulating 1.95 million miles. He holds a Class A CDL from Kansas. His driving record for the last 3 years shows no crashes and no convictions for moving violations in a CMV.

Keith D. Blackwell

Mr. Blackwell, 59, has had glaucoma in his right eye due to a retinal detachment since 2009. The visual acuity in his right eye is no light perception, and in his left eye, 20/20. Following an examination in 2016, his optometrist stated, “I certify that in my medical opinion, Mr [sic] Blackwell has sufficient vision to perform the driving tasks required to operate a commercial vehicle.” Mr. Blackwell reported that he has driven straight trucks for 2 years, accumulating 20,000 miles and tractor-trailer combinations for 28 years, accumulating 3.36 million miles. He holds a Class A CDL from Texas. His driving record for the last 3 years shows no crashes and no convictions for moving violations in a CMV.

Gerald D. Bowser

Mr. Bowser, 62, has had a macular scar in his right eye due to a traumatic incident in 1966. The visual acuity in his right eye is 20/400, and in his left eye, 20/20. Following an examination in 2016, his optometrist stated, “I feel Gerald is more than capable to drive a commercial vehicle efficiently concerning his visual capability.” Mr. Bowser reported that he has driven straight trucks for 43 years, accumulating 645,000 miles, and tractor-trailer combinations for 10 years, accumulating 250,000 miles. He holds an operator's license from Pennsylvania. His driving record for the last 3 years shows no crashes and no convictions for moving violations in a CMV.

Kathy J. Brown

Ms. Brown, 55, has had amblyopia in her right eye since childhood. The visual acuity in her right eye is 20/300, and in her left eye, 20/20. Following an examination in 2016, her optometrist stated, “Visually evaluated I feel that this patient is able to perform the tasks required to operate a commercial motor vehicle due to the full visual field in each eye and ability to achieve 20/20-1 in the left eye” Ms. Brown reported that she has driven straight trucks for 4 years, accumulating 50,000 miles. She holds an operator's license from Ohio. Her driving record for the last 3 years shows no crashes and no convictions for moving violations in a CMV.

Louis J. Cullen, Jr.

Mr. Cullen, 71, has complete loss of vision in his left eye due to a traumatic incident in 1968. The visual acuity in his right eye is 20/25, and in his left eye, no light perception. Following an examination in 2016, his optometrist stated, “I believe Mr. Cullen has sufficient vision to perform his job and driving tasks required to drive a commercial vehicle.” Mr. Cullen reported that he has driven straight trucks for 50 years, accumulating 15,000 miles, buses for 10 years, accumulating 15,000 miles. He holds a Class A CDL from New Jersey. His driving record for the last 3 years shows no crashes and no convictions for moving violations in a CMV.

Edwin P. Davis

Mr. Davis, 49, has corneal scarring in his right eye due to a traumatic incident in childhood. The visual acuity in his right eye is hand motion, and in his left eye, 20/20. Following an examination in 2016, his optometrist stated, “Based on these test results, it is my opinion that Mr. Davis possesses sufficient vision to perform the driving tasks required to operate a commercial vehicle.” Mr. Davis reported that he has driven straight trucks for 33 years, accumulating 429,000 miles, and tractor-trailer combinations for 33 years, accumulating 660,000 miles. He holds a Class A CDL from Oregon. His driving record for the last 3 years shows one crash, to which he did not contribute and for which he was not cited, and no convictions for moving violations in a CMV.

Timothy J. Dougherty

Mr. Dougherty, 55, has had amblyopia in his left eye since childhood. The visual acuity in his right eye is 20/20, and in his left eye, 20/50. Following an examination in 2016, his optometrist stated, “Based on this it is my professional opinion that Mr. Dougherty has adequate activities to visually perform the driving tasks to operate a commercial vehicle.” Mr. Dougherty reported that he has driven straight trucks for 4 years, accumulating 40,000 miles, and tractor-trailer combinations for 2 years, accumulating 52,000 miles. He holds a Class A CDL from Minnesota. His driving record for the last 3 years shows no crashes and no convictions for moving violations in a CMV.

Stephen R. Ehlenburg

Mr. Ehlenburg, 54, has complete loss of vision in his left eye since birth. The visual acuity in his right eye is 20/20, and in his left eye, light perception. Following an examination in 2016, his ophthalmologist stated, “He has sufficient vision to operate a commercial vehicle.” Mr. Ehlenburg reported that he has driven straight trucks for 5 years, accumulating 300,000 miles, and tractor-trailer combinations for 15 years, accumulating 1.05 million miles. He holds a Class A CDL from Illinois. His driving record for the last 3 years shows no crashes and no convictions for moving violations in a CMV.

Stanley W. Goble, Jr.

Mr. Goble, 50, has had amblyopia in his left eye since childhood. The visual acuity in his right eye is 20/20, and in his left eye, 20/60. Following an examination in 2016, his optometrist stated, “I certify that it is my medical opinion that Mr. Goble has sufficient vision to perform the driving tasks required to operate a commercial vehicle.” Mr. Goble reported that he has driven tractor-trailer combinations for 22 years, accumulating 1.43 million miles. He holds a Class A CDL from Iowa. His driving record for the last 3 years shows no crashes and no convictions for moving violations in a CMV.

William R. Guida

Mr. Guida, 60, has had amblyopia in his right eye since birth. The visual acuity in his right eye is 20/200, and in his left eye, 20/15. Following an examination in 2016, his optometrist stated, “I believe that William has sufficient vision to perform any driving task required to operate a commercial vehicle.” Mr. Guida reported that he has driven straight trucks for 15 years, accumulating 7,500 miles. He holds an operator's license from Pennsylvania. His driving record for the last 3 years shows no crashes and no convictions for moving violations in a CMV.

Thomas H. Gysbers

Mr. Gysbers, 63, has had central vision loss in his left eye due to glaucoma in childhood. The visual acuity in his right eye is 20/20, and in his left eye, 20/50. Following an examination in 2016, his optometrist stated, “I believe he is well adapted to his vision condition and has sufficient vision to safely operate a commercial vehicle.” Mr. Gysbers reported that he has driven straight trucks for 40 years, accumulating 600,000 miles and tractor-trailer combinations for 40 years, accumulating 80,000 miles. He holds a Class ABCDM CDL from Wisconsin. His driving record for the last 3 years shows no crashes and no convictions for moving violations in a CMV.

Jerry L. Hayden, Jr.

Mr. Hayden, Jr., 46, had optic neuritis in his left eye due to a traumatic incident in childhood. The visual acuity in his right eye is 20/20, and in his left eye, 20/400. Following an examination in 2016, his optometrist stated, “In my opinion Jerry has stable and sufficient vision that is unchanged over the past 11 years to operate a commercial vehicle.” Mr. Hayden reported that he has driven straight trucks for 22 years, accumulating 220,000 miles. He holds a Class B CDL from Iowa. His driving record for the last 3 years shows no crashes and no convictions for moving violations in a CMV.

John T. Mabry

Mr. Mabry, 45, has had chronic microcystic edema and aphakia in his left eye since childhood. The visual acuity in his right eye is 20/20, and in his left eye, count fingers. Following an examination in 2016, his ophthalmologist stated, “Mr. Mabry meets the visual requirements for operation of a commercial vehicle.” Mr. Mabry reported that he has driven buses for 3 years, accumulating 312,000 miles. He holds an operator's license from Florida. His driving record for the last 3 years shows no crashes and no convictions for moving violations in a CMV.

Peter E. McDonnell

Mr. McDonnell, 52, has complete loss of vision in his left eye due to a traumatic incident in 2000. The visual acuity in his right eye is 20/20, and in his left eye, no light perception. Following an examination in 2016, his optometrist stated, “This letter certifies that Peter meets or exceeds the visual requirements needed to operate a commercial vehicle.” Mr. McDonnell reported that he has driven straight trucks for 20 years, accumulating 480,000 miles. He holds an operator's license from Massachusetts. His driving record for the last 3 years shows no crashes and no convictions for moving violations in a CMV.

George P. Mendiola

Mr. Mendiola, 49, has had amblyopia in his left eye since childhood. The visual acuity in his right eye is 20/15, and in his left eye, 20/70. Following an examination in 2016, his optometrist stated, “In my medical opinion, George has sufficient vision to perform driving tasks needed to operate a commercial vehicle.” Mr. Mendiola reported that he has driven straight trucks for 9 years, accumulating 270,000 miles, and tractor-trailer combinations for 8 years, accumulating 80,000 miles. He holds a Class A CDL from California. His driving record for the last 3 years shows no crashes and no convictions for moving violations in a CMV.

Norman D. Mosely

Mr. Mosely, 57, has had a central retinal vein occlusion in his right eye since 2008. The visual acuity in his right eye is 20/60, and in his left eye, 20/25. Following an examination in 2016, his ophthalmologist stated, “In my medical opinion his visual acuity and field of vision qualifies him to drive a commercial vehicle.” Mr. Mosely reported that he has driven straight trucks for 10 years, accumulating 110,000 miles, buses for 19 years, accumulating 320,000 miles. He holds an operator's license from New Jersey. His driving record for the last 3 years shows no crashes and no convictions for moving violations in a CMV.

Joe W. Restine

Mr. Restine, 53, has complete loss of vision in his left eye due to a traumatic incident in 1945. The visual acuity in his right eye is 20/20, and in his left eye, no light perception. Following an examination in 2016, his optometrist stated, “I, Ed Jones O.D., certify that in my medical opinion, Joe Restine, has sufficient vision to perform the driving tasks required to operate a commercial vehicle.” Mr. Restine reported that he has driven straight trucks for 34 years, accumulating 850,000 miles, tractor-trailer combinations for 32 years, accumulating 160,000 miles. He holds an operator's license from Oklahoma. His driving record for the last 3 years shows no crashes and 1 conviction for a moving violation in a CMV; he failed to yield to a traffic control device.

Greg D. Schneckloth

Mr. Schneckloth, 24, has complete loss of vision in his right eye since 2000. The visual acuity in his right eye is no light perception, and in his left eye, 20/15. Following an examination in 2016, his optometrist stated, “In my opinion, Mr. Scneckloth has sufficient vision to perform the driving tasks required to operate a motorized vehicle, including commercial vehicles, as long as the current laws state that he may do so considering the loss of vision in his right eye (if the vision loss does not cause any exclusion of operating rights).” Mr. Schneckloth reported that he has driven straight trucks for 3 years, accumulating 31,500 miles. He holds a Class A CDL from Iowa. His driving record for the last 3 years shows no crashes and no convictions for moving violations in a CMV.

Allen J. Stolz

Mr. Stolz, 48, has had amblyopia in his right eye since childhood. The visual acuity in his right eye is 20/50, and in his left eye, 20/20. Following an examination in 2016, his optometrist stated, “His main problem is amblyopia in the right eye. . .In my opinion, Mr. Stolz should be able to get his commercial license.” Mr. Stolz reported that he has driven straight trucks for 1 year, accumulating 1,000 miles, and tractor-trailer combinations for 18 years, accumulating 216,000 miles. He holds a Class ABCDM CDL from Wisconsin. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0208 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0208 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: September 29, 2016.
Larry W. Minor,
Associate Administrator for Policy.

[FR Doc. 2016-24447 Filed 10-7-16; 8:45 am]

BILLING CODE 4910-EX-P